DEPARTMENT OF COMMERCE

Census Bureau

Feasibility Study for Conducting the American Community Survey in Puerto Rico

ACTION: Proposed collection; comment request.

SUMMARY: The Department of Commerce, as part of its continuing effort to reduce paper work and respondent burden, invites the general public and other federal agencies to take this opportunity to comment on proposed or continuing information collections, as required by the Paperwork Reduction Act of 1995, Public Law 104-13 (44 U.S.C. 3506(c)(2)(A)).

DATES: Written comments must be submitted on or before April 6, 2001.

ADDRESSES: Direct all written comments to Madeleine Clayton, Departmental Forms Clearance Officer, Department of Commerce, Room 6086, 14th and Constitution Avenue, NW., Washington, DC 20230 (or via the Internet at mclayton@doc.gov).

FOR FURTHER INFORMATION CONTACT: Requests for additional information or copies of the information collection instrument(s) and instructions should be directed to Don Fischer, U. S. Census Bureau, Demographic Surveys Division, Washington, DC 20233. His telephone number is (301) 457-8048.

SUPPLEMENTARY INFORMATION:

I. Abstract

The Census Bureau plans to conduct a feasibility study to assess the operational implications of using the American Community Survey data collection methods in Puerto Rico. The American Community Survey, which the Census Bureau initiated in November 1995, is an ongoing, continuous monthly household survey that provides data which were historically collected via the decennial census long-form questionnaire. We are currently in the comparison phase (1999-2002) of the American Community Survey in which we are comparing American Community Survey data with data collected during Census 2000.

In 2003, the Census Bureau plans to begin conducting the American Community Survey in every county in the United States and also in Puerto Rico. This feasibility study is necessary to determine whether the current data collection procedures are appropriate for use in Puerto Rico.

The current design of the American Community Survey relies on three methods of data collection: mailout/mailback, computer-assisted telephone interviewing (CATI), and computer-assisted personal interviewing (CAPI). During Census 2000, the Census Bureau used update/leave/mailback methods in Puerto Rico. This feasibility study will allow us to determine whether we can successfully mail questionnaires to households in Puerto Rico and whether we can conduct CATI and CAPI interviews with households that do not return the mailed form. In addition, we will be able to estimate CATI and CAPI work loads in Puerto Rico in 2003 based on the mail response rates in the study and our ability to obtain telephone numbers for use in the CATI operation.

II. Method of Collection

The Census Bureau will mail a modified and translated version of the American Community Survey questionnaire to approximately 10,000 households in Puerto Rico. For households that do not return a questionnaire, the Census Bureau staff will attempt to conduct interviews by CATI or CAPI.

The Census Bureau staff will provide telephone questionnaire assistance.

III. Data

OMB Number: Not available.

Form Number: ACS-1(2000) PR.

Type of Review: Regular.

Affected Public: Individuals and households.

Estimated Number of Respondents: During the period of July 2001 through October 2001, we plan to contact 10,000 households for this feasibility study.

Estimated Time Per Response: Estimates are 38 minutes per household.

Estimated Total Annual Burden Hours: The estimate is an annual average of 6,333 burden hours.

Estimated Total Annual Cost: Except for their time, there is no cost to respondents.

Respondent Obligation: Mandatory.

Authority: Title 13, United States Code, Section 182.

IV. Request for Comments

Comments are invited on: (a) whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collections techniques or others forms of information technology.

Comments submitted in response to this notice will be summarized and included in the request for the OMB approval of this information collection; they also will become a matter of public record.

Dated: January 30, 2001.
Madeleine Clayton,
Departmental Forms Clearance Officer, Office of the Chief Information Officer.

[FR Doc. 01-2943 Filed 2-2-01; 8:45 am]

BILLING CODE 3510-07-P